FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 10, 2002.

A. Federal Reserve Bank of Atlanta (Cynthia C. Goodwin, Vice President) 1000 Peachtree Street, N.E., Atlanta, Georgia 30309-4470:

1. Estate of Oscar W. Roberts, Jr., Carrollton, Georgia; Louise T. Roberts, Carrollton, Georgia; Antoinette Roberts Goodrich; Marion, Virginia; Heather Roberts, Carrollton, Georgia; Oscar W. Roberts, III; Cleveland, Georgia; Helen T. Roberts, Atlanta, Georgia; Alfred F. Goodrich, Carrollton, Georgia; Bonita J. Roberts; Carrollton, Georgia; Oscar W. Roberts, IV, Carrollton, Georgia; Eleanor R. Goodrich, Carrollton, Georgia; Thomas T. Richards, Carrollton, Georgia; J. Patrick Malloy, Carrollton, Georgia; Sally A. Bobick, Carrollton, Georgia; Mary A. Maierhoffer, Carrollton, Georgia; Cornelia S. Richards, Carrollton, Georgia; Margaret R. Bass, Albany, Georgia; Cornelia L. Richards, New York, New York; Margaret R. Bass Trust, Carrollton, Georgia; Cornelia L. Richards Trust, Carrollton, Georgia; Estate of H.W. Richards, Carrollton, Georgia; Joe W. Walker, Carrollton, Georgia; Jan W. Walker, Carrollton, Georgia; Katherine M. Chewning, Carrollton, Georgia; Nicholas C. Walker, Carrollton, Georgia; Katherine R. Walker, Carrollton, Georgia; Wanda W. Calhoun, Carrollton, Georgia; Madeline A. Chewning, Carrollton, Georgia; Whitney L. Walker, Carrollton, Georgia; Greg W. Walker, Carrollton, Georgia; H. Frederick Walker, Carrollton, Georgia ; and Ross A. Chewning, Carrollton, Georgia; all to retain voting shares of WGNB Corp., Carrollton, Georgia, and thereby indirectly retain voting shares of West Georgia National Bank of Carrollton, Carrollton, Georgia.

Board of Governors of the Federal Reserve System, December 20, 2001.
Robert deV. Frierson,
Deputy Secretary of the Board.

[FR Doc. 01-31876 Filed 12-27-01; 8:45 am]

BILLING CODE 6210-01-S